FEDERAL COMMUNICATIONS COMMISSION

[FR ID 99511]

Announcement of Next Meeting of the Consumer Advisory Committee

AGENCY: Federal Communications Commission.

ACTION: Notice.

SUMMARY: This notice announces the next meeting date, time, and agenda of the FCC Consumer Advisory Committee (Committee), a federal advisory committee established under the Federal Advisory Committee Act (FACA).

DATES: Tuesday, August 30, 2022, from 1:30 p.m. to 3:30 p.m. EST.

ADDRESSES: The meeting will be held remotely using an internet videoconferencing platform and publicly available for viewing via a live stream on the Commission's website.

FOR FURTHER INFORMATION CONTACT: Joshua Mendelsohn, Designated Federal Officer, at CAC@fcc.gov, Federal Communications Commission, 45 L Street NE, Washington, DC 20554.

SUPPLEMENTARY INFORMATION: This is a summary of the Commission's Public Notice, DA 22-808, released August 1, 2022, announcing the date, time, and agenda of the Committee's August 30, 2022 meeting. At this meeting, the Committee will consider and vote on a report examining the problem of illegal and unwanted text messages.

This meeting will be conducted in a wholly electronic format using an internet videoconference platform. The meeting will be open to members of the public and available via live stream at www.fcc.gov/live. The FCC will post about the event on the agency's social media channels including Twitter (@FCC) and Facebook (www.facebook.com/fcc) in advance of the event and during the live stream. Members of the public may submit questions that arise during the meeting to livequestions@fcc.gov.

Open captioning will be provided for the live stream. Other reasonable accommodations for people with disabilities are available upon request. To request materials in accessible formats for people with disabilities (Braille, large print, electronic files, audio format), send an email to FCC504@fcc.gov or call the FCC's Consumer and Governmental Affairs Bureau at 202-418-0530 (voice).

Consult the Committee's web page at www.fcc.gov/consumer-advisory-committee for further Committee information.

Comments to the Committee may be submitted through the Designated Federal Officer at the above email address.

Federal Communications Commission.
Marlene Dortch,
Secretary, Office of the Secretary.

[FR Doc. 2022-16858 Filed 8-4-22; 8:45 am]

BILLING CODE 6712-01-P